DEPARTMENT OF DEFENSE

Defense Acquisition Regulations System

48 CFR Part 213

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective February 15, 2024.

FOR FURTHER INFORMATION CONTACT: Ms. Jennifer D. Johnson, Defense Acquisition Regulations System, telephone 703-717-8226.

SUPPLEMENTARY INFORMATION: This final rule amends the DFARS to make needed editorial changes to add a pointer to DFARS Procedures, Guidance, and Information.

List of Subjects in 48 CFR Part 213

Government procurement.

Jennifer D. Johnson,
Editor/Publisher, Defense Acquisition Regulations System.

Therefore, 48 CFR part 213 is amended as follows:

PART 213—SIMPLIFIED ACQUISITION PROCEDURES

1. The authority citation for 48 CFR part 213 continues to read as follows:

Authority: 41 U.S.C. 1303 and 48 CFR chapter 1.

2. Amend section 213.301 by adding paragraph (6) to read as follows:

213.301 Governmentwide commercial purchase card.

* * * * *

(6) When the Governmentwide commercial purchase card is used as a method of payment for contracts or orders, follow the procedures at 232.7002(a)(5) and PGI 242.302(a)(13)(B)(3).

[FR Doc. 2024-02748 Filed 2-14-24; 8:45 am]

BILLING CODE 6001-FR-P